DEPARTMENT OF TRANSPORTATION

Maritime Administration

[Docket No. DOT-MARAD 2016 0090]

Agency Requests for Renewal of a Previously Approved Information Collection(s): Information To Determine Seamen's Reemployment Rights—National Emergency

AGENCY: Maritime Administration, Department of Transportation.

ACTION: Notice and request for comments.

SUMMARY: The Maritime Administration (MARAD) invites public comments about our intention to request the Office of Management and Budget (OMB) approval to renew an information collection. This information will be used to determine if U.S. civilian mariners are eligible for re-employment rights under the Maritime Security Act of 1996. We are required to publish this notice in the Federal Register by the Paperwork Reduction Act of 1995, Public Law 104-13.

DATES: Written comments should be submitted by October 31, 2016.

ADDRESSES: You may submit comments [identified by Docket No. DOT-MARAD-2016-0090] through one of the following methods:

• Federal eRulemaking Portal: http://www.regulations.gov. Follow the online instructions for submitting comments.

• Fax: 1-202-493-2251

• Mail or Hand Delivery: Docket Management Facility, U.S. Department of Transportation, 1200 New Jersey Avenue SE., West Building, Room W12-140, Washington, DC 20590, between 9 a.m. and 5 p.m., Monday through Friday, except on Federal holidays.

FOR FURTHER INFORMATION CONTACT: Rodney McFadden, Maritime Administration, Office of Labor and Workforce Development, 1200 New Jersey Avenue SE., Washington, DC 20590, 202-366-0029; or email: rod.mcfadden@dot.gov.

SUPPLEMENTARY INFORMATION:

OMB Control Number: 2133-0526.

Title: Information to Determine Seamen's Reemployment Rights—National Emergency.

Form Numbers: None.

Type of Review: Renewal of an information collection.

Background: This collection is needed in order to implement provisions of the Maritime Security Act of 1996. These provisions grant re-employment rights and other benefits to certain merchant seamen serving aboard vessels used by the United States during times of national emergencies. The Maritime Security Act of 1996 establishes the procedures for obtaining the necessary MARAD certification for re-employment rights and other benefits.

Respondents: U.S. Merchant Seamen who have completed designated national service during a time of maritime mobilization need and are seeking re-employment with a prior employer.

Number of Respondents: 10.

Number of Responses: 10.

Total Annual Burden: 10.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:93.

By Order of the Maritime Administrator.
Dated: August 23, 2016.
T. Mitchell Hudson, Jr.,
Secretary, Maritime Administration.

[FR Doc. 2016-20874 Filed 8-29-16; 8:45 am]

BILLING CODE 4910-81-P